DEPARTMENT OF AGRICULTURE

Forest Service

Klamath National Forest, California, Noxious and Invasive Plant Control Project EIS

AGENCY: Forest Service, USDA.

ACTION: Notice of intent to prepare an environmental impact statement.

SUMMARY: The Forest Service will prepare an environmental impact statement (EIS) on a proposal to conduct noxious and invasive plant control on the Klamath National Forest (KNF) in Siskiyou County, California. The purpose of the proposal is to help in the control of noxious weeds and invasive exotic plants. These plants are an increasing threat to the function, composition, and structure of native ecosystems. This EIS will analyze the treatment of prioritized noxious weeds spread geographically over 27,000 acres on known and suspected infestation sites Forest-wide by a variety of treatment methods. Actual treatment would be on 2,700 acres per year or less. The KNF still has an opportunity to prevent extensive weed infestation and spread, if aggressive, consistent treatment is employed.

DATES: Comments concerning the scope of the analysis must be received by 45 days after publication of this notice in the Federal Register. The draft environmental impact statement is expected in summer 2003 and the final environmental impact statement is expected in fall 2003.

ADDRESSES: Send written comments to Margaret J. Boland, Forest Supervisor, KNF, 1312 Fairlane Road, Yreka, CA 96097. Electronic mail may be sent to r5_klamath_comment@fs.fed.us. Please reference the Noxious and Invasive Plant Control Project on the subject line. Also, include your name and mailing address with your comments so documents pertaining to this project may be mailed to you.

FOR FURTHER INFORMATION CONTACT: Anne Yost, EIS Team Leader, (530) 468-1226.

SUPPLEMENTARY INFORMATION:

Purpose and Need for Action

Noxious weeds and invasive exotic plants are a serious biodiversity issue of great significance to human and natural resource conditions on the KNF. Increasing human population and activity contributes to the rapid spread of weeds. There are about 2,000 exotic and noxious weed species already established in the United States, with more entering the country every year as trade and travel between continents increases. Millions of acres of public lands in the West are rapidly undergoing the greatest degradation due to the spread of invasive non-native plants. Estimates indicate invasive plants are increasing at about 4,600 acres per day on Federal lands alone, and spreading at a rate of 14% per year (Asher and Mullahey, Weed Science Society of America Congressional Briefing, 1997). Within the last 20 years in California, studies show that yellow starthistle alone has increased from 1 million acres to more than 20 million-about 22 percent of the State's land base (Joe DiTomasso, Department of Weed Science, University of California, Davis, personal communication). Current inventories indicate that weeds are spreading at an increasing rate on Forest Service lands within the Pacific Southwest Region (Region 5 Strategy).

According to statistics compiled by the Integrated Pest Control Branch of the California Department of Food and Agriculture Plant Health and Pest Prevention Services (1998 Annual Report), 93 percent of the acres infested with A-rated noxious weeds in the State are located in the northeastern part of the State, including Siskiyou County. B- and C-rated pests occur in greater numbers and their density and frequency varies according to individual site locations. These species are generally widespread in the State of California and in Siskiyou County, and eradication is not an achievable goal on a broad scale. On the KNF, the numbers of exotic invasive plant species and areas infested are relatively small compared to other parts of the west. The KNF still has an opportunity to prevent extensive weed infestation and spread if aggressive, consistent treatment is employed.

Project Objective

The objectives of the KNF Noxious and Invasive Plant Control Project are to:

• Protect the ecosystem function and biodiversity of the KNF by preventing the continued spread of aggressive, non-native plant species.

• Prevent the spread of established non-native noxious and invasive plants into uninfested or lightly infested area. This is a strategy of containing the leading edge.

• Eradicate new invaders (non-native noxious and invasive plant species not previously reported in the area) before they become established.

• Eradicate or control known and potential non-native noxious and invasive plant infestations in the following areas that are considered infestation pathways (roads, trails, streams, intensively burned areas) for the establishment and movement of these plants on the KNF.

Proposed Action

The U.S. Department of Agriculture (USDA) Forest Service, KNF, proposes to treat/control prioritized noxious weeds that are spread geographically over 27,000 acres on known and suspected infestation sites Forest-wide by a variety of treatment methods. Actual treatment would be on 2,700 acres per year or less. The word “control” refers to eradication (elimination) or reduction for some weed populations, and slowing the rate of spread for others. An Integrated Pest Management approach will be used, which employs a combination of control methods including: physical control (e.g. hand-pulling, digging, clipping, mowing, tilling, and burning); cultural control (e.g., seeding and cultivation); biological control (e.g., use of parasites and pathogens); and chemical control (e.g., use of herbicides). No aerial spraying of herbicides will occur.

Responsible Official

Margaret Boland, Forest Supervisor, KNF, 1312 Fairlane Road, Yreka, California 96097 is the Responsible Official.

Nature of Decision To Be Made

The decision is what actions, if any, should be taken to control non-native noxious and invasive plants on the KNF; where treatments should be applied, what type of treatments should be used, and what resource protection measures and operating procedures will be applied.

Scoping Process

In April 2002, this project was included in the KNF's Spring 2002 Schedule of Proposed Actions (SOPA), which was posted on the KNF's internet website and mailed to the SOPA mailing list. In October 2002, a scoping letter of the proposed project will be sent to potentially affected individuals and anyone who expresses an interest in this proposal. This notice will invite public comment. Comments received will be included in the documentation for the EIS. The public is encouraged to take part in the process and to with the Forest Service officials at any time during the analysis and prior to the decision. The Forest Service will be seeking information, comments and assistance from Federal, State, and local agencies and other individuals or organizations who may be interested in, or affected by, the proposed administrative study.

While public participation in this analysis is welcome at any time, comments received within 45 days of the publication of this notice will be especially useful in the preparation of the Draft EIS. Information will be used in preparation of the draft and final EIS. The scoping will include identifying: potential issues, significant issues to be analyzed in depth, alternatives to the proposed action, and potential environmental effects of the proposed and alternatives.

Comment Requested

This notice of intent initiatives the scoping process, which guides the development of the environmental impact statement.

Early Notice of Importance of Public Participation in Subsequent Environmental Review

A draft environmental impact statement will be prepared for comment. The comment period on the draft environmental impact statement will be 45-days from the date the Environmental Protection Agency publishes the notice of availability in the Federal Register.

The Forest Service believes, at this early stage, it is important to give reviewers notice of several court rulings related to public participation in the environmental review process. First, reviewers of Draft EISs must structure their participation in the environmental review of the proposed so that it is meaningful and alerts an agency to the reviewer's position and contentions. Vermont Yankee Nuclear Power Corp v. NRDC,435 U.S. 519, 533, (1978). Also, environmental objections that could be raised at the Draft EIS stage but that are not raised until after completion of the Final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final EIS.

To assist the Forest Service in identifying and considering issues and concerns on the proposed action, comments on the Draft EIS should be as specific as possible. It is also helpful if comments refer to specific pages or chapters of the draft statement. Comments may also address the adequacy of the Draft EIS or the merits of the alternatives formulated and discussed in the statement. Reviewers may wish to refer to the Council on Environmental Quality Regulations for implementing the procedural provisions of the National Environmental Policy Act at 40 CFR 1503.3 in addressing these points.

Comments received, including the names and addresses of these who comment, will be considered part of the public record on this proposal and will be available for public inspection.

(Authority: 40 CFR 1501.7 and 1508.22; Forest Service Handbook 191.15, Section 21)

Dated: September 27, 2002.
Michael P. Lee,
Deputy Forest Supervisor, Klamath National Forest.

[FR Doc. 02-25112 Filed 10-2-02; 8:45 am]

BILLING CODE 3410-11-M